DEPARTMENT OF HOMELAND SECURITY

Coast Guard

46 CFR Parts 1, 10, 11, 12, 13, 14, and 15

[Docket No. USCG-2014-0016]

Policy Implementing the Standards of Training, Certification and Watchkeeping Final Rule; Notice of Availability

AGENCY: Coast Guard, DHS.

ACTION: Notification of availability.

SUMMARY: The Coast Guard announces the availability of nine Navigation and Vessel Inspection Circulars (NVICs), which are the first set of a series of NVICs to implement the final rule that aligned Coast Guard regulations with amendments to the International Convention on Standards of Training, Certification and Watchkeeping for Seafarers, and made changes to national endorsements. These NVICs will provide guidance to mariners concerning new regulations governing merchant mariner certificates and endorsements to Merchant Mariner Credentials (MMC).

DATES: These NVICs are effective on February 26, 2014.

FOR FURTHER INFORMATION CONTACT: If you have questions about this document, call or email Luke B. Harden, Mariner Credentialing Program Policy Division (CG-CVC-4), U.S. Coast Guard; telephone 202-372-2357, or MMCPolicy@uscg.mil. If you have questions on viewing material in the docket, call Cheryl Collins, Program Manager, Docket Operations, telephone 202-366-9826.

SUPPLEMENTARY INFORMATION:

Viewing Documents

The nine NVICs listed below are available in the docket and can be viewed by going to www.regulations.gov, inserting USCG-2014-0016 in the “Keyword” box, and then clicking “Search.”

Discussion

On December 24, 2014, the Coast Guard published a Final Rule in the Federal Register (78 FR 77796) to implement the International Convention on Standards of Training, Certification and Watchkeeping for Seafarers, 1978 (STCW Convention), including the 2010 amendments to the STCW Convention, and the Seafarers' Training, Certification and Watchkeeping Code. The final rule also made changes to reorganize, clarify, and update regulations for credentialing merchant mariners. In the future, the Coast Guard will issue additional NVICs to provide further guidance on the implementation of the new regulations regarding merchant mariner certificates and endorsements to MMCs. The nine NVICs listed below represent the first phase of this effort:

1. Guidance on the Issuance of Medical Certificates (NVIC 01-14). This NVIC describes policy for the issuance of medical certificates to merchant mariners.

2. Grandfathering and Transitional Provisions for Merchant Mariner Credentials (NVIC 02-14). This NVIC describes grandfathering and transitional provisions for MMCs.

3. Guidelines for Approval of Training Courses and Programs (NVIC 03-14). This NVIC describes policy for documentation, submission, and approval of merchant mariner training.

4. Guidelines for Qualification for STCW Endorsements for Proficiency in Survival Craft and Rescue Boats Other Than Fast Rescue Boats (NVIC 04-14). This NVIC describes policy for merchant mariners to qualify for and renew MMC endorsements for Proficiency in Survival Craft and Proficiency in Survival Craft-Limited.

5. Guidelines for Qualification for STCW Endorsements for Proficiency in Fast Rescue Boats (NVIC 05-14). This NVIC describes policy for merchant mariners to qualify for and renew MMC endorsements for Proficiency in Fast Rescue Boats.

6. Guidelines for Qualification for STCW Endorsements as Rating Forming Part of a Navigational Watch (NVIC 06-14). This NVIC describes policy for merchant mariners to qualify for and renew MMC endorsements as Rating Forming Part of a Navigational Watch.

7. Guidelines for Qualification for STCW Endorsements as Rating Forming Part of an Engineering Watch (NVIC 07-14). This NVIC describes policy for merchant mariners to qualify for and renew MMC endorsements as Rating Forming Part of an Engineering Watch.

8. Guidelines for Qualification for STCW Endorsements for Basic Training (Formerly Basic Safety Training) (NVIC 08-14). This NVIC describes policy for merchant mariners to qualify for and renew endorsements to an MMC for Basic Training.

9. Guidelines for Qualification for STCW Endorsements for Advanced Firefighting (NVIC 09-14). This NVIC describes policy for merchant mariners to qualify for and renew MMC endorsements for Advanced Firefighting.

Although all of these NVICs are important to the implementation of the new regulations, note that NVICs 01-14, 02-14, and 03-14 will be particularly helpful during the beginning of the transition to those regulations.

Authority

This document is issued under the authority of 5 U.S.C. 552(a).

Dated: January 29, 2014.
Jonathan C. Burton,
Captain, U.S. Coast Guard, Director, Inspection & Compliance.

[FR Doc. 2014-04177 Filed 2-25-14; 8:45 am]

BILLING CODE 9110-04-P